DEPARTMENT OF TRANSPORTATION

Federal Aviation Administration

Consensus Standards, Light-Sport Aircraft

AGENCY: Federal Aviation Administration, DOT.

ACTION: Notice of availability; request for comments.

SUMMARY: This notice announces the availability of one new and seven revised consensus standards relating to the provisions of the Sport Pilot and Light-Sport Aircraft rule issued July 16, 2004, and effective September 1, 2004. ASTM International Committee F37 on Light Sport Aircraft developed the new and revised standards with Federal Aviation Administration (FAA) participation. By this notice, the FAA finds the new and revised standards acceptable for certification of the specified aircraft under the provisions of the Sport Pilot and Light-Sport Aircraft rule.

DATES: Comments must be received on or before August 12, 2013.

ADDRESSES: Comments may be mailed to: Federal Aviation Administration, Small Airplane Directorate, Programs and Procedures Branch, ACE-114, Attention: Terry Chasteen, Room 301, 901 Locust, Kansas City, Missouri 64106. Comments may also be emailed to: 9-ACE-AVR-LSA-Comments@faa.gov. All comments must be marked: Consensus Standards Comments, and must specify the standard being addressed by ASTM designation and title.

FOR FURTHER INFORMATION CONTACT: Terry Chasteen, Light-Sport Aircraft Program Manager, Programs and Procedures Branch (ACE-114), Small Airplane Directorate, Aircraft Certification Service, Federal Aviation Administration, 901 Locust, Room 301, Kansas City, Missouri 64106; telephone (816) 329-4147; email: terry.chasteen@faa.gov.

SUPPLEMENTARY INFORMATION: This notice announces the availability of one new and seven revised consensus standards to previously accepted consensus standards relating to the provisions of the Sport Pilot and Light-Sport Aircraft rule. ASTM International Committee F37 on Light Sport Aircraft developed the new and revised standards. The FAA expects a suitable consensus standard to be reviewed at least every two years. The two-year review cycle will result in a standard revision or reapproval. A standard is issued under a fixed designation (i.e., F2244); the number immediately following the designation indicates the year of original adoption or, in the case of revision, the year of last revision. A number in parentheses indicates the year of last reapproval. A reapproval indicates a two-year review cycle completed with no technical changes. A superscript epsilon (ε) indicates an editorial change since the last revision or reapproval. A notice of availability (NOA) will only be issued for new or revised standards. Reapproved standards issued with no technical changes or standards issued with editorial changes only (i.e., superscript epsilon (ε)) are considered accepted by the FAA without need for a NOA.

Comments Invited: Interested persons are invited to submit such written data, views, or arguments, as they may desire. Communications should identify the consensus standard number and be submitted to the address specified above. All communications received on or before the closing date for comments will be forwarded to ASTM International Committee F37 for consideration. The standard may be changed in light of the comments received. The FAA will address all comments received during the recurring review of the consensus standard and will participate in the consensus standard revision process.

Background: Under the provisions of the Sport Pilot and Light-Sport Aircraft rule, and revised Office of Management and Budget (OMB) Circular A-119, “Federal Participation in the Development and Use of Voluntary Consensus Standards and in Conformity Assessment Activities”, dated February 10, 1998, industry and the FAA have been working with ASTM International to develop consensus standards for light-sport aircraft. These consensus standards satisfy the FAA's goal for airworthiness certification and a verifiable minimum safety level for light-sport aircraft. Instead of developing airworthiness standards through the rulemaking process, the FAA participates as a member of Committee F37 in developing these standards. The use of the consensus standard process assures government and industry discussion and agreement on appropriate standards for the required level of safety.

Comments on Previous Notices of Availability

In the Notice of Availability (NOA) issued on February 22, 2012, and published in the Federal Register on April 23, 2012 the FAA asked for public comments on the new and revised consensus standards accepted by that NOA. The comment period closed on June 22, 2012. No public comments were received regarding the standards accepted by this NOA.

Consensus Standards in this Notice of Availability

The FAA has reviewed the standards presented in this NOA for compliance with the regulatory requirements of the rule. Any light-sport aircraft issued a special light-sport airworthiness certificate, which has been designed, manufactured, operated and maintained, in accordance with this and previously accepted ASTM consensus standards provides the public with the appropriate level of safety established under the regulations. Manufacturers who choose to produce these aircraft and certificate these aircraft under 14 CFR part 21, §§ 21.190 or 21.191 are subject to the applicable consensus standard requirements. The FAA maintains a listing of all accepted standards on the FAA Web site.

The Revised Consensus Standard and Effective Period of Use

The following previously accepted consensus standards have been revised, and this NOA is accepting the later revision. Either the previous revision or the later revision may be used for the initial certification of special light-sport aircraft until December 11, 2013. This overlapping period of time will allow aircraft that have started the initial certification process using the previous revision level to complete that process. After December 11, 2013, manufacturers must use the later revision and must identify the later revision in the Statement of Compliance for initial certification of special light-sport aircraft unless the FAA publishes a specific notification otherwise. The following Consensus Standards may not be used after December 11, 2013:

ASTM Designation F2243-05, titled: Standard Specification for Required Product Information to be Provided with Powered Parachute Aircraft

ASTM Designation F2245-11, titled: Standard Specification for Design and Performance of a Light Sport Airplane

ASTM Designation F2316-08, titled: Standard Specification for Airframe Emergency Parachutes

ASTM Designation F2355-10, titled: Standard Specification for Design and Performance Requirements for Lighter-Than-Air Light Sport Aircraft

ASTM Designation F2483-05, titled: Standard Practice for Maintenance and the Development of Maintenance Manuals for Light Sport Aircraft

ASTM Designation F2626-07, titled: Standard Terminology for Light Sport Aircraft

The Consensus Standards

The FAA finds the following new and revised consensus standards acceptable for certification of the specified aircraft under the provisions of the Sport Pilot and Light-Sport Aircraft rule. The following consensus standards become effective June 11, 2013 and may be used unless the FAA publishes a specific notification otherwise:

ASTM Designation F2243-11, titled: Standard Specification for Required Product Information to be Provided with Powered Parachute Aircraft

ASTM Designation F2245-12d, titled: Standard Specification for Design and Performance of a Light Sport Airplane

ASTM Designation F2316-12, titled: Standard Specification for Airframe Emergency Parachutes

ASTM Designation F2355-12, titled: Standard Specification for Design and Performance Requirements for Lighter-Than-Air Light Sport Aircraft

ASTM Designation F2483-12, titled: Standard Practice for Maintenance and the Development of Maintenance Manuals for Light Sport Aircraft

ASTM Designation F2626-12, titled: Standard Terminology for Light Sport Aircraft

ASTM Designation F2746-12, titled: Standard Specification for Pilot's Operating Handbook (POH) for Light Sport Airplane

ASTM Designation F2930-12, titled: Standard Guide for Compliance with Light Sport Aircraft Standards

Availability

These consensus standards are copyrighted by ASTM International, 100 Barr Harbor Drive, PO Box C700, West Conshohocken, PA 19428-2959. Individual reprints of a standard (single or multiple copies, or special compilations and other related technical information) may be obtained by contacting ASTM at this address, or at (610) 832-9585 (phone), (610) 832-9555 (fax), through service@astm.org (email), or through the ASTM Web site at www.astm.org. To inquire about standard content and/or membership or about ASTM International Offices abroad, contact Christine DeJong, Staff Manager for Committee F37 on Light Sport Aircraft: (610) 832-9736, cdejong@astm.org.

Issued in Kansas City, Missouri on May 31, 2013.
Earl Lawrence,
Manager, Small Airplane Directorate, Aircraft Certification Service.

[FR Doc. 2013-13796 Filed 6-10-13; 8:45 am]

BILLING CODE 4910-13-P